DEPARTMENT OF TRANSPORTATION

Office of the Secretary

[OST Docket No. DOT-OST-2010-0140]

Notice of Submission of Proposed Information Collection to OMB

AGENCY: Office of the Secretary, Department of Transportation (DOT).

ACTION: Notice and request for comments.

SUMMARY: In accordance with the Paperwork Reduction Act of 1995 this notice announces the Department of Transportation's (Department) intention to reinstate an Office of Management and Budget (OMB) control number for the collection and posting of certain aviation consumer protection-related information from U.S. carriers and foreign carriers. On April 25, 2011, the DOT issued a final rule that, among other things, extended existing consumer protection requirements that previously applied only to U.S. carriers to foreign carriers and required that certain U.S. and foreign air carriers report tarmac delay information to the DOT for passenger operations that experience a tarmac delay time of 3 hours or more at a U.S. airport (See, DOT-OST-2010-0140). This request seeks to reinstate the control number that is associated with the information collection requirements in that rule, OMB Control Number 2105-0561.

DATES: Comments on this notice must be received by July 21, 2017. Interested persons are invited to submit comments regarding this proposal.

ADDRESSES: To ensure that you do not duplicate your docket submissions, please submit them by only one of the following means:

• Federal eRulemaking Portal: Go to http://www.regulations.gov and follow the online instructions for submitting comments.

• Mail: Docket Management Facility, U.S. Department of Transportation, 1200 New Jersey Ave. SE., West Building Ground Floor Room W-12/140, Washington, DC 20590-0001;

• Hand delivery: West Building Ground Floor, Room W-12/140, 1200 New Jersey Ave. SE., between 9 a.m. and 5 p.m., Monday through Friday, except Federal holidays. The telephone number is 202-366-9329.

FOR FURTHER INFORMATION CONTACT: Kimberly Graber or Daeleen Chesley, Office of the Secretary, Office of the Assistant General Counsel for Aviation Enforcement and Proceedings (C-70), Department of Transportation, 1200 New Jersey Ave. SE., Washington, DC 20590, 202-366-9342 (voice) 202-366-7152 (fax) or at Kimberly.Graber@dot.gov or Daeleen.Chesley@dot.gov.

SUPPLEMENTARY INFORMATION:

Title: Submission of Miscellaneous Information Collection Systems as Required by the Department's Rules to Enhance Airline Passenger Protections.

OMB Control Number: 2105-0561.

On April 25, 2011, the Department issued a rule to enhance airline passenger protections that, among other things, extended to foreign carriers the requirement to post tarmac delay plans, customer service plans, and contracts of carriage on their Web sites. This requirement had previously only applied to U.S. carriers. The rule also required that U.S. air carriers that operate passenger service and foreign air carriers that operate scheduled passenger service to or from the U.S. retain for two years certain information about any ground delay that lasts at least three hours, adopt a Customer Service Plan, audit its adherence to the plan annually, and retain the results for two years. In addition, a prior rule issued on December 30, 2009, required that each reporting air carrier (i.e., currently U.S. carriers that account for at least 1 percent of domestic scheduled passenger revenues) display on its Web site information on each listed flight's on-time performance for the previous month for both the carrier's flights and those of its non-reporting code-share carriers.

A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB Control Number. See 5 CFR 1320.5(a) and 1320.6.

This notice addresses five information collection requirements concerning information collection requirements set forth in the Department's airline passenger protection rules. The reinstated OMB control number will be applicable to all information collection systems set forth in this notice. For each of these information collections, the title, a description of the respondents, and an estimate of the annual recordkeeping and periodic reporting burden are set forth below:

1. Requirement to post customer service plans and contracts of carriage on a carrier's Web site. (259.2 and 259.6)

Title: Posting of Customer Service Plan and Contract of Carriage on Web site.

Respondents: U.S. carriers that operate scheduled passenger or public charter service and foreign air carriers operating scheduled passenger or public charter service to or from the United States, using any aircraft with a designed seating capacity of 30 or more seats. Applicable to U.S. carriers that have a Web site and foreign carriers that have a Web site marketed toward U.S. consumers.

Estimated Number of Respondents: 45 U.S. airlines and 65 foreign carriers.

Estimated Total Burden on Respondents: 27 hours and 30 minutes (1,650 minutes, average of 15 minutes per U.S. carrier to post plans and contracts of carriage on Web site).

Frequency: One time per respondent.

2. Requirement to retain for two years information about any tarmac delay that lasts at least three hours. (259.2 and 259.4)

Title: Retaining Ground Delay Information.

Respondents: U.S. carriers that operate or market scheduled or public charter passenger service using any aircraft with a designed seating capacity of 30 or more seats, and foreign air carriers that operate or market scheduled or public charter passenger service to and from the United States using any aircraft with a designed seating capacity of 30 or more seats. To be covered, the tarmac delay must have occurred at a U.S. large hub, medium hub, small hub or non-hub airport.

Estimated Number of Respondents: 61 U.S. and 93 foreign carriers.

Estimated Annual Burden on Respondents: A maximum of 88 hours (5,280 minutes) for a U.S. respondent and a maximum of 32 hours (1,920 minutes) for a foreign respondent. The estimate was calculated multiplying the estimated time to retain information about one ground delay (2 hours) by the total number of ground delay incidents lasting at least three hours per U.S. respondent (a maximum of 44 incidents, derived from analysis of tarmac delays for CY2016).

For foreign respondents, the estimate was similarly calculated by multiplying the estimated time to retain information about one ground delay (4 hours) by the total number of ground delay incidents lasting at least three hours for CY2016 (a maximum of 8 incidents).

Estimated Total Annual Burden: A maximum of 530 hours (31,800 minutes) for all respondents. For U.S. carriers, the subtotal was determined by multiplying the sum of the total per report time (2 hours) for U.S. carriers by the total number of CY2016 ground delay incidents lasting at least three hours for all U.S. carriers (159 total incidents). For foreign carriers the subtotal was determined by multiplying the per report time (4 hours) for foreign carriers multiplied by the total number of ground delay incidents lasting at least three hours for the foreign carriers (53 total incidents). The estimate was calculated by adding the sum of the two subtotals for all CY2016 tarmac delays lasting at least three hours (318 hours for U.S. carriers plus 212 hours for foreign carriers).

Frequency: A maximum of 44 ground delay information sets to retain per year for a single respondent. (N.b. Some air carriers may not experience any ground delay incidents of at least three hours in a given year, while one air carrier experienced 44 three-hour plus delays in CY2016 according to data reported to the Bureau of Transportation Statistics).

3. Requirement that certain U.S. and foreign air carriers retain for two years the results of its annual self-audit of its compliance with its Customer Service Plan. (259.2 and 259.5)

Title: Retaining Self-audit of Customer Service Plan.

Respondents: U.S. carriers that operate scheduled passenger service using any aircraft with a designed seating capacity of 30 or more seats, and foreign air carriers that operate scheduled passenger service to and from the United States using any aircraft with a designed seating capacity of 30 or more seats.

Number of Respondents: 45 U.S. and 70 foreign carriers.

Estimated Annual Burden on Respondents: 15 minutes per year for each respondent. The estimate was calculated by multiplying the estimated time to retain a copy of the carrier's self-audit of its compliance with its Customer Service Plan by the number of audits per carrier in a given year (1).

Estimated Total Annual Burden: A maximum of 28 hours and 30 minutes (1,725 minutes) for all respondents. The estimate was calculated by multiplying the time in a given year for each carrier to retain a copy of its self-audit of its compliance with its Customer Service Plan (15 minutes) by the total number of covered carriers (115 carriers).

Frequency: One information set to retain per year for each respondent.

4. Requires that each large U.S. carrier display on its Web site, at a point before the consumer selects a flight for purchase, the following information for each listed flight regarding its on-time performance during the last reported month: The percentage of arrivals that were on time (within 15 minutes of scheduled arrival time), the percentage of arrivals that were more than 30 minutes late (with special highlighting if the flight was more than 30 minutes late more than 50 percent of the time), and the percentage of flight cancellations if the flight is cancelled more than 5% of the time. In addition, a marketing/reporting carrier display delay data for its non-reporting code-share carrier(s). (234.11)

Title: Displaying On-time performance Information on Carrier Web site.

Respondents: Currently every U.S. carrier that accounts for at least one percent of scheduled passenger revenue and maintains a Web site.¹

¹ On January 1, 2018, covered carriers (i.e. “reporting carriers”) will include air carriers that operate scheduled passenger service that accounts for at least 0.5 percent and less than 1.0 percent of domestic scheduled passenger revenue and that market flights directly to consumers via a Web site. The requirement will be included as part of this reinstated OMB Control Number. However, the requirement will not impact newly reporting carriers that do not maintain a Web site that displays flight schedules.

Number of Respondents: 12 carriers.

Estimated Annual Burden on Respondents: 2 hours per month (24 hours) to cover both updates of a carrier's own delay data and updates of code-share delay data.

Estimated Total Annual Burden: No more than 288 hours (17,280 minutes) a year for all respondents. The estimate was calculated by multiplying the total number of hours per carrier per year for management of data links (24) by the number of covered carriers (12).

Frequency: Updating information for each flight listed on Web site 12 times per year (1 time per month) for each respondent (for both own carrier delay data and code-share delay data).

5. Requirement that certain carriers report tarmac delay data for tarmac delays exceeding 3 hours to the Department on a monthly basis. (244.2)

Title: Reporting Tarmac Delay Data for Tarmac Delays Exceeding 3 Hours

Respondents: U.S. carriers that operate scheduled passenger service or public charter service using any aircraft with a designed seating capacity of 30 or more seats, and foreign air carriers that operate scheduled passenger service to and from the United States using any aircraft with a designed seating capacity of 30 or more seats. To be covered, the tarmac delay must have occurred at a U.S. large hub, medium hub, small hub or non-hub airport.

Number of Respondents: 61 U.S. and 70 foreign carriers.

Estimated Annual Burden on Respondents: 0.0 to 22.0 hours per U.S. respondent (the latter if 44 three-hour plus tarmac delays must be reported) and 0.0 to 4 hours per foreign respondent (the latter if 8 three-hour plus tarmac delays must be reported). This is estimating that each report takes 30 minutes to submit.

Estimated Total Annual Burden: 106 hours (6,360 minutes) for all respondents.

Frequency: One information set to submit per incident for each respondent that experiences a tarmac delay of 3 hours or more (212 three-hour plus tarmac delay reports total were submitted in CY16 to the Bureau of Transportation Statistics).

We invite comments on (a) whether the collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology. All responses to this notice will be summarized and included in the request for OMB approval. All comments will also become a matter of public record on the docket.

Issued this 9th day of May, 2017, at Washington, DC.
Blane Workie,
Assistant General Counsel for Aviation Enforcement and Proceedings.

[FR Doc. 2017-10344 Filed 5-19-17; 8:45 am]

BILLING CODE 4910-9X-P